DEPARTMENT OF THE INTERIOR

Bureau of Indian Affairs

[156A2100DD/AAKC001030/A0A501010.999900 253G]

Notice of Intent To Prepare an Environmental Impact Statement for the Proposed Little River Band of Ottawa Indians Fruitport Casino Project, Fruitport Township, Muskegon County, Michigan

AGENCY: Bureau of Indian Affairs, Interior.

ACTION: Notice.

SUMMARY: This notice advises the public that the Bureau of Indian Affairs (BIA), as lead agency, intends to gather information necessary for preparing an Environmental Impact Statement (EIS) pursuant to the National Environmental Policy Act (NEPA) in connection with the Little River Band of Ottawa Indians (Tribe) application for a proposed 60-acre fee-to-trust transfer and casino project to be located in Fruitport Township, Muskegon County, Michigan. This notice also announces the beginning of the public scoping process to solicit public comments and identify potential issues and content for inclusion in the EIS.

DATES: Written comments on the scope of the EIS must arrive by October 21, 2015. The date and location of a public scoping meeting will be announced at least 15 days in advance through a notice to be published in the local newspaper, the Muskegon Chronicle, and posted at www.littlerivereis.com.

ADDRESSES: You may mail, hand carry, or fax written comments to Ms. Diane Rosen, Midwest Regional Director, Bureau of Indian Affairs, Midwest Region, Norman Pointe II Building, 5600 West American Boulevard, Suite 500, Bloomington, Minnesota 55437; Fax: (612) 713-4401. Additionally, you may email comments to the person listed in the FOR FURTHER INFORMATION CONTACTsection of this notice. Please include your name, return address, and “NOI Comments, Little River Casino Project” on the first page of your written comments.

FOR FURTHER INFORMATION CONTACT: Mr. Scott Doig, Acting Regional Environmental Scientist, Bureau of Indian Affairs, Midwest Region, Norman Pointe II Building, 5600 West American Boulevard, Suite 500, Bloomington, MN 55437; Phone (612) 725-4514; email scott.doig@bia.gov.

SUPPLEMENTARY INFORMATION: The Tribe has submitted an application to BIA requesting that approximately 60 acres of land be transferred from fee to trust status upon which the Tribe would develop a casino, hotel, parking, and other supporting facilities. In order for the Department to fully consider and either grant or deny the Tribe's application, the Department must first comply with NEPA. The property is located within Fruitport Township, Muskegon County, Michigan, approximately 5 miles south of the City of Muskegon. It is bounded by Interstate 96 to the northeast and Ellis Road to the south. Areas of environmental concern identified for analysis in the EIS include land resources, water resources, air quality, noise, biological resources, cultural resources, resource use patterns, traffic and transportation, public health/environmental hazards, public services and utilities, socioeconomics, environmental justice, and visual resources/aesthetics. Alternatives identified for analysis include the proposed action, a non-gaming alternative, a reduced-intensity alternative, and an alternative site location. The range of issues and alternatives are open to revision based on comments received in response to this notice. Other related approvals may be required to implement the project, including approval of the Tribe's fee-to-trust application, determination of the site's eligibility for gaming, compliance with the Clean Water Act, and local service agreements. To the extent applicable, the EIS will identify and evaluate issues related to these approvals. The purpose of the Tribe's proposed action is to improve the economic status of the Tribal government so it can better provide housing, health care, education, cultural programs, and other services to its members. Additional information, including a map of the project site, is available by contacting the person listed in the FOR FURTHER INFORMATION CONTACT section of this notice.

Public Comment Availability

Comments, including names and addresses of respondents, will be available for public review at the BIA address shown in the ADDRESSES section of this notice, during regular business hours, 8 a.m. to 4:30 p.m., Monday through Friday, except holidays. Before including your address, phone number, email address, or other personal identifying information in your comment, you should be aware that your entire comment—including your personal identifying information—may be made publicly available at any time. While you can ask in your comment that your personal identifying information be withheld from public review, BIA cannot guarantee that this will occur.

Authority: This notice is published in accordance with sections 1503.1 and 1506.6 of the Council on Environmental Quality Regulations (40 CFR parts 1500 through 1508) implementing the procedural requirements of the National Environmental Policy Act of 1969, as amended (42 U.S.C. 4321-4345 et seq.), and the Department of the Interior Manual (516 DM 1-6), and is in the exercise of authority delegated to the Assistant Secretary—Indian Affairs by 209 DM 8.1.

Dated: September 14, 2015.
Kevin K. Washburn,
Assistant Secretary—Indian Affairs.

[FR Doc. 2015-23609 Filed 9-18-15; 8:45 am]

BILLING CODE 4337-15-P